ENVIRONMENTAL PROTECTION AGENCY

[ER-FRL-9010-1]

Environmental Impacts Statements; Notice of Availability

Responsible Agency: Office of Federal Activities, General Information (202) 564-7146 or http://www.epa.gov/compliance/nepa/.

Weekly receipt of Environmental Impact Statements Filed 07/01/2013 Through 07/05/2013 Pursuant to 40 CFR 1506.9.

Notice

Section 309(a) of the Clean Air Act requires that EPA make public its comments on EISs issued by other Federal agencies. EPA's comment letters on EISs are available at: http://www.epa.gov/compliance/nepa/eisdata.html.

EIS No. 20130199, Draft Supplement, BLM, WY, Bighorn Basin Draft Resource Management Plan Revision Project, Comment Period Ends: 10/12/2013, Contact: Caleb Hiner 307-347-5100

EIS No. 20130200, Final EIS, FTA, CA, Van Ness Bus Rapid Transit Project, Review Period Ends: 08/12/2013, Contact: Alex Smit 415-744-3133

EIS No. 20130201, Final EIS, USFS, AK, Big Thorne Project, Review Period Ends: 08/12/2013, Contact: Frank Roberts 907-828-3250

EIS No. 20130202, Draft EIS, NOAA, 00, Amending the Atlantic Large Whale Take Reduction Plan, Vertical Line Rule, Comment Period Ends: 09/13/2013, Contact: Kate Swails 978-282-8481

EIS No. 20130203, Final Supplement, USFS, CA, Eldorado National Forest Travel Management, Review Period Ends: 08/12/2013, Contact: Diana Erickson 530-621-5214

EIS No. 20130204, Final EIS, NASA, AK, Sounding Rockets Program at Poker Flat Research Range, Review Period Ends: 08/12/2013, Contact: Joshua A. Bundick 757-824-2319

EIS No. 20130205, Final EIS, FHWA, CA, State Route 58 (SR-58) Hinkley Expressway Project, Review Period Ends: 08/12/2013, Contact: James Shankel 909-383-6379

EIS No. 20130206, Revised Final EIS, USACE, FL, Addendum to the Final Areawide EIS on Phosphate Mining in the Central Florida Phosphate District, Review Period Ends: 08/12/2013, Contact: John Fellows 813-769-7070

EIS No. 20130207, Draft EIS, FHWA, DC, Virginia Avenue Tunnel Reconstruction, Comment Period Ends: 08/26/2013, Contact: Michael Hicks 202-219-3513

Amended Notice

EIS No. 20130148, Draft Supplement, USACE, FL, Jacksonville Harbor Navigation, Comment Period Ends: 07/31/2013, Contact: Paul Stodola 904-232-3271

Revision to FR Notice Published 06/07/2013; Extending Comment Period from 07/15/2013 to 07/31/2013

Dated: July 9, 2013.
Cliff Rader
Director, NEPA Compliance Division, Office of Federal Activities.

[FR Doc. 2013-16761 Filed 7-11-13; 8:45 am]

BILLING CODE 6560-50-P